DEPARTMENT OF DEFENSE

Office of the Secretary

Defense Advisory Committee on Military Personnel Testing

AGENCY: Under Secretary of Defense for Personnel and Readiness, DoD.

ACTION: Notice.

SUMMARY: Pursuant to Public Law 92-463, notice is hereby given that a meeting of the Defense Advisory Committee on Military Personnel Testing is scheduled to be held. The purpose of the meeting is to review planned changes and progress in developing computerized and paper-and-pencil enlistment tests and renorming of the tests.

DATES: July 17, 2003, from 8 a.m. to 5 p.m., and July 18, 2003, from 8 a.m. to 5 p.m.

ADDRESSES: The meeting will be held at the Peabody Court Hotel, 612 Cathedral Street, Baltimore, Maryland 21201.

FOR FURTHER INFORMATION CONTACT: Dr. Jane M. Arabian, Assistant Director, Accession Policy, Office of the Under Secretary of Defense (Personnel and Readiness), Room 2B271, the Pentagon, Washington, DC 20301-4000, telephone (703) 697-9271.

SUPPLEMENTARY INFORMATION: Persons desiring to make a oral presentations or submit written statements for consideration at the Committee meeting must contact Dr. Jane M. Arabian at the address or telephone number above no later than June 23, 2003.

Dated: June 4, 2003.
Patricia L. Toppings,
Alternate OSF Federal Register Liaison Officer, Department of Defense.

[FR Doc. 03-15041 Filed 6-13-03; 8:45 am]

BILLING CODE 5001-08-M